NATIONAL SCIENCE FOUNDATION

Advisory Panel for Physiology and Ethology; Notice of Meeting

In accordance with the Federal Advisory Committee Act (Pub. L. 92-463, as amended), the National Science Foundation (NSF) announces the following meeting.

Name: Advisory Panel for Physiology and Ethology (1160).

Date and Time: April 23, 24 and 25, 2001, 8:30 a.m.-6 p.m.

Place: NSF, Room 390, 4201 Wilson Boulevard, Arlington, VA.

Type of Meeting: Part-Open.

Contact Person; Dr. William E. Zamer, Program Director, Integrative Animal Biology, Division of Integrative Biology and Neuroscience, Room 685N, National Science Foundation, 4201 Wilson Boulevard, Arlington, VA 22230, Telephone: (703) 292-8421.

Purpose of Meeting: To provide advice and recommendations concerning proposals submitted to NSF for financial support.

Minutes: May be obtained from the contact person listed above.

Agenda: Open Season: April 25, 2001, 11 a.m. to 12 a.m.—discussion on research trends, opportunities and assessment procedures in Integrative Animal Biology.

Closed Session: April 23, 2001, 8:30 a.m. to 6 p.m.; April 24, 2001, 8:30 a.m. to 6 p.m.; and April 25, 2001, 8:30 a.m. to 11 a.m. and from 12 a.m. to 6 p.m. To review and evaluate Integrative Animal Biology proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: March 6, 2001.
Susanne Bolton,
Committee Meeting Officer.

[FR Doc. 01-5877 Filed 3-8-01; 8:45 am]

BILLING CODE 7555-01-M